DEPARTMENT OF LABOR

Employment and Training Administration

[NAFTA—05073]

DV & P, Inc., New York, New York; Notice of Termination and Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on July 2, 2001 in response to a petition filed on behalf of workers at DV & P, Inc., New York, New York.

The petitioners requested that the petition for NAFTA-TAA be withdrawn. Consequently, further investigation in this case would serve no purpose, and the investigation has been terminated.

Signed at Washington, D.C., this 7th day of August, 2001.
Linda G. Poole,
Certifying Officer, Division of Trade Adjustment Assistance.

[FR Doc. 01-21320 Filed 8-22-01; 8:45 am]

BILLING CODE 4510-30-M